DEPARTMENT OF ENERGY

Energy Information Administration

Agency Information Collection Extension

AGENCY: U.S. Energy Information Administration (EIA), U.S. Department of Energy (DOE).

ACTION: Notice and request for comments.

SUMMARY: EIA submitted an information collection request for extension as required by the Paperwork Reduction Act of 1995. The information collection requests a three-year extension, with changes, to Form EIA-914, “Monthly Crude Oil and Lease Condensate, and Natural Gas Production Report” under OMB Control Number 1905-0205. Form EIA-914 collects monthly data from well operators at the state level on crude oil and lease condensate, and natural gas production within the United States. These data are used by EIA to estimate state, regional, and U.S. crude oil and lease condensate, and natural gas production.

DATES: Comments on this information collection must be received no later than October 16, 2020. Written comments and recommendations for the proposed information collection should be sent within 30 days of publication of this notice to www.reginfo.gov/public/do/PRAMain. Find this particular information collection by selecting “Currently under Review—Open for Public Comments” or by using the search function below “Currently under Review”.

FOR FURTHER INFORMATION CONTACT: Jessica Biercevicz, U.S. Energy Information Administration, telephone 202-586-4299, or by email at jessica.biercevicz@eia.gov. The forms and instructions are available on EIA's website at www.eia.gov/survey.

SUPPLEMENTARY INFORMATION: This information collection request contains:

(1) OMB No.: 1905-0205;

(2) Information Collection Request Title: Monthly Crude Oil and Lease Condensate, and Natural Gas Production Report;

(3) Type of Request: Three-year extension with changes;

(4) Purpose: Form EIA-914 Monthly Crude Oil and Lease Condensate, and Natural Gas Production Report, collects monthly data on natural gas production, crude oil and lease condensate production, and crude oil and lease condensate sales by API gravity. These data are used by EIA to estimate state, regional, and U.S. crude oil and natural gas production.

(4a) Changes to Information Collection: Respondents in four (4) states (Alabama, Michigan, Mississippi, and Virginia) and the Federal Offshore Pacific area will report crude oil and natural gas production in the “Other States” category rather than separately report their state or offshore area production. Production in these 4 states and offshore area will be combined with other states with small production volumes in the “Other States” category. Although production in these 4 states and offshore area have remained stable over the past 3 years, their percentage of the US total production for crude oil and natural gas has declined over the past 4 years.

(5) Annual Estimated Number of Respondents: 400;

(6) Annual Estimated Number of Total Responses: 4,800;

(7) Annual Estimated Number of Burden Hours: 19,200;

(8) Annual Estimated Reporting and Recordkeeping Cost Burden: EIA estimates that respondents will have no additional costs associated with the surveys other than the burden hours and the maintenance of the information during the normal course of business. The cost of burden hours to the respondents is estimated to be $1,538,688 (19,200 burden hours times $80.14).

Authority: 15 U.S.C. 772(b) and 42 U.S.C. 7101 et seq.

Signed in Washington, DC, on September 10, 2020.
Thomas Leckey,
Assistant Administrator, Office of Energy Statistics, U.S. Energy Information Administration.

[FR Doc. 2020-20342 Filed 9-15-20; 8:45 am]

BILLING CODE 6450-01-P